FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A Copy of the agreement is available through the Commission's Web site (www.fmc.gov) or by contacting the Office of Agreements at (202) 523-5793 or tradeanalysis@fmc.gov.

Agreement No.: 012290.

Title: Crowley/King Ocean Space Charter and Sailing Agreement—Northern Zone.

Parties: Crowley Latin America Services, LLC and King Ocean Services Limited, Inc.

Filing Party: Wayne Rohde, Esq.; Cozen O'Connor; 1627 I Street NW., Suite 1100; Washington, DC 20006.

Synopsis: The agreement would authorize Crowley to charter space to King Ocean in the trade between the U.S. East Coast, on the one hand, and ports in Guatemala and Honduras, on the other hand. The parties have requested expedited review.

By Order of the Federal Maritime Commission.
Dated: August 1, 2014.
Rachel E. Dickon,
Assistant Secretary.

[FR Doc. 2014-18572 Filed 8-5-14; 8:45 am]

BILLING CODE 6730-01-P